DEPARTMENT OF COMMERCE

International Trade Administration

[C-331-806]

Frozen Warmwater Shrimp From Ecuador: Initiation of Expedited Review of the Countervailing Duty Order

AGENCY: Enforcement and Compliance, International Trade Administration, Department of Commerce.

SUMMARY: The U.S. Department of Commerce (Commerce) is initiating an expedited review of the countervailing duty order on frozen warmwater shrimp (shrimp) from Ecuador.

DATES: Applicable March 6, 2025.

FOR FURTHER INFORMATION CONTACT: Reginald Anadio or Zachary Shaykin, AD/CVD Operations, Office IV, Enforcement and Compliance, International Trade Administration, U.S. Department of Commerce, 1401 Constitution Avenue NW, Washington, DC 20230; telephone: (202) 482-3166 or (202) 482-2638, respectively.

SUPPLEMENTARY INFORMATION:

Background

On December 26, 2024, Commerce published the countervailing duty order on shrimp from Ecuador.¹ On January 24, 2025, Commerce received requests for an expedited review of the Order from six companies: Empacadora del Pacifico S.A. (Edpacif); Nirsa S.A. (Nirsa); Procesadora Posorja S.A. (Proposorja); Productos Perecibles y Marisco S.A. (Propemar); Exportadora Total Seafood S.A. (Total Seafood); and Natluk S.A. (Natluk).² These companies, which were not selected for individual examination during the investigation, made these requests pursuant to 19 CFR 351.214(l).

¹ See Frozen Warmwater Shrimp from Indonesia: Antidumping Duty Order; Frozen Warmwater Shrimp from Ecuador, India, and the Socialist Republic of Vietnam: Countervailing Duty Orders, 89 FR 104982 (December 26, 2024) (Order).

² See Edpacif's Letter, “Frozen Warmwater Shrimp from Ecuador—Empacadora del Pacifico's Request for Expedited Review,” dated January 24, 2025; see also Nirsa and Proposorja's Letter, “Frozen Warmwater Shrimp from Ecuador—Nirsa's and Proposorja's Requests for Expedited Review,” dated January 24, 2025; Propemar's Letter, “Frozen Warmwater Shrimp from Ecuador—Propemar's Request for Expedited Review,” dated January 24, 2025; Total Seafood's Letter, “Frozen Warmwater Shrimp from Ecuador—Total Seafood's Request for Expedited Review,” dated January 24, 2025; and Natluk's Letter, “Frozen Warmwater Shrimp from Ecuador—Natluk's Request for Expedited Review,” dated January 24, 2025.

Period of Review

As specified by 19 CFR 351.214(l)(3)(i), the period of review will be the same as the original period of investigation, i.e., January 1, 2022, through December 31, 2022.

Scope of the Review

The merchandise covered by this expedited review is shrimp from Ecuador. For a full description of the scope of this review, see the appendix to this notice.

Filing Requirements

All submissions to Commerce must be filed electronically via Enforcement and Compliance's Antidumping Duty and Countervailing Duty Centralized Electronic Service System (ACCESS), unless an exemption applies.³ An electronically filed document must be received successfully in its entirety by the time and date it is due.

³ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Initiation of Expedited Review

In accordance with 19 CFR 351.214(l)(1)(i)-(iii), each company that requested a review certified that it exported the subject merchandise to the United States during the period of investigation; that it was not affiliated with an exporter or producer that Commerce individually examined in the investigation; and that it informed the Government of Ecuador, as the government of the exporting country, that the government will be required to provide a full response to Commerce's countervailing duty questionnaire.

Therefore, in accordance with 19 CFR 351.214(k), we are initiating an expedited review of the countervailing duty order on shrimp from Ecuador. Pursuant to 19 CFR 351.214(i)(1) (l)(3), we intend to issue the preliminary results of this expedited review not later than 180 days from the date of initiation of this review.⁴

⁴ Under 19 CFR 351.214(k)(i)(2), this period may be extended to 300 days.

Pursuant to 19 CFR 351.214(l)(3)(ii), the final results of this expedited review will not be the basis for the assessment of countervailing duties. Instead, this expedited review is intended to establish individual cash deposit rates for those companies that requested an expedited review, or to exclude from the countervailing duty order a company for which the final results of expedited review are zero or de minimis, as provided in 19 CFR 351.214(l)(3)(iii).

Pursuant to 19 CFR 351.214(f), we will rescind the expedited review for any company that withdraws its request for expedited review within 60 days after the date of publication of this notice of initiation.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁵ and, if the information is submitted to rebut, clarify, or correct factual information already on the record, to provide an explanation identifying the information already on the record that the factual information seeks to rebut, clarify, or correct.⁶ Time limits for the submission of factual information are addressed in 19 CFR 351.301, which provides specific time limits based on the type of factual information being submitted. Interested parties should review the regulations prior to submitting factual information in this review.

⁵ See 19 CFR 351.301(b).

⁶ See 19 CFR 351.301(b)(2).

Extension of Time Limits

Parties may request an extension of time limits before the expiration of a time limit established under 19 CFR 351.301, or as otherwise specified by Commerce. In general, an extension request will be considered untimely if it is filed after the expiration of the time limit established under 19 CFR 351.301, or as otherwise specified by Commerce.⁷ For submissions that are due from multiple parties simultaneously, an extension request will be considered untimely if it is filed after 10:00 a.m., Eastern Time, on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.⁸

⁷ See 19 CFR 351.301; see also Extension of Time Limits; Final Rule, 78 FR 57790 (September 20, 2013) (Time Limits Final Rule), available at https://www.gpo.gov/fdsys/pkg/FR-2013-09-20/html/2013-22853.html.

⁸ See 19 CFR 351.302; see also, e.g., Time Limits Final Rule.

Certification Requirements

Any party submitting factual information in an antidumping or countervailing duty proceeding must certify the accuracy and completeness of that information.⁹ Parties must use the certification formats provided in 19 CFR 351.303(g).¹⁰ Commerce intends to reject factual submissions if the submitting party does not comply with the applicable certification requirements.

⁹ See section 782(b) of the Act.

¹⁰ See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties must submit applications for disclosure under administrative protective orders in accordance with 19 CFR 351.305. Parties wishing to participate in these investigations should ensure that they meet the requirements of 19 CFR 351.103(d) (e.g., by filing the required letters of appearance). Note that Commerce has modified certain of its regulations pertaining to the service of documents in 19 CFR 351.303(f).¹¹

¹¹ Effective October 30, 2023, these changes apply to all AD/CVD proceedings that are ongoing on the effective date and all AD/CVD proceedings initiated on or after the effective date. See Administrative Protective Order, Service, and Other Procedures in Antidumping and Countervailing Duty Proceedings, 88 FR 67069 (September 29, 2023).

This notice is issued and published in accordance with 19 CFR 351.214(l)(2)(i).

Dated: February 28, 2025.
Christopher Abbott,
Deputy Assistant Secretary for Policy and Negotiations, performing the non-exclusive functions and duties of the Assistant Secretary for Enforcement and Compliance.

Appendix—Scope of the Order

The scope of this Order includes certain frozen warmwater shrimp and prawns whether wild-caught (ocean harvested) or farm-raised (produced by aquaculture), head-on or head-off, shell-on or peeled, tail-on or tail-off, deveined or not deveined, cooked or raw, or otherwise processed in frozen form. “Tails” in this context means the tail fan, which includes the telson and the uropods.

The frozen warmwater shrimp and prawn products included in the scope, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannamei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope. In addition, food preparations, which are not “prepared meals,” that contain more than 20 percent by weight of shrimp or prawn are also included in the scope.

Excluded from the scope are: (1) breaded shrimp and prawns (HTSUS subheading 1605.20.10.20); (2) shrimp and prawns generally classified in the Pandalidae family and commonly referred to as coldwater shrimp, in any state of processing; (3) fresh shrimp and prawns whether shell-on or peeled (HTSUS subheadings 0306.36.0020 and 0306.36.0040); (4) shrimp and prawns in prepared meals (HTSUS subheading 1605.20.05.10); (5) dried shrimp and prawns; (6) canned warmwater shrimp and prawns (HTSUS subheading 1605.20.10.40); (7) certain dusted shrimp; and (8) certain battered shrimp. Dusted shrimp is a shrimp-based product: (1) that is produced from fresh (or thawed-from-frozen) and peeled shrimp; (2) to which a “dusting” layer of rice or wheat flour of at least 95 percent purity has been applied; (3) with the entire surface of the shrimp flesh thoroughly and evenly coated with the flour; (4) with the nonshrimp content of the end product constituting between four and 10 percent of the product's total weight after being dusted, but prior to being frozen; and (5) that is subjected to IQF freezing immediately after application of the dusting layer. Battered shrimp is a shrimp-based product that, when dusted in accordance with the definition of dusting above, is coated with a wet viscous layer containing egg and/or milk, and par-fried.

The products covered by the scope are currently classified under the following HTSUS subheadings: 0306.17.0004, 0306.17.0005, 0306.17.0007, 0306.17.0008, 0306.17.0010, 0306.17.0011, 0306.17.0013, 0306.17.0014, 0306.17.0016, 0306.17.0017, 0306.17.0019, 0306.17.0020, 0306.17.0022, 0306.17.0023, 0306.17.0025, 0306.17.0026, 0306.17.0028, 0306.17.0029, 0306.17.0041, 0306.17.0042, 1605.21.1030, and 1605.29.1010. These HTSUS subheadings are provided for convenience and for customs purposes only and are not dispositive, but rather the written description of the scope is dispositive.

[FR Doc. 2025-03614 Filed 3-5-25; 8:45 am]

BILLING CODE 3510-DS-P